DEPARTMENT OF STATE

[Public Notice 5675]

Determination and Waiver of Section 620(q) of the Foreign Assistance Act of 1961, as Amended, Relating to Assistance to the Democratic Republic of Congo

Pursuant to the authority vested in me by section 620(q) of the Foreign Assistance Act of 1961, as amended (FAA), and by Executive Order 12163, as amended, I hereby determine that assistance to the Democratic Republic of Congo is in the national interest of the United States and thereby waive, with respect to that country, the application of section 620(q) of the FAA.

This determination shall be reported to Congress and published in the Federal Register.

Dated: December 11, 2006.
Condoleezza Rice,
Secretary of State, Department of State.

[FR Doc. E7-833 Filed 1-19-07; 8:45 am]

BILLING CODE 4710-26-P